DEPARTMENT OF JUSTICE

[CPCLO Order No. 004-2017]

Privacy Act of 1974; System of Records

AGENCY: United States Department of Justice.

ACTION: Notice of modified Systems of Records; blanket routine use.

SUMMARY: Pursuant to the Privacy Act of 1974, 5 and Office of Management and Budget (OMB) Circular No. A-108, notice is hereby given that the United States Department of Justice (Department or DOJ) proposes to modify the DOJ System of Records Notices for the DOJ systems of records listed below.

DATES: In accordance with 5 U.S.C. 552a(e)(4) and (11), this notice is subject to a 30-day notice and comment period. Please submit any comments by June 26, 2017.

ADDRESSES: The public, OMB, and Congress are invited to submit any comments to the U.S. Department of Justice, ATTN: Privacy Analyst, Office of Privacy and Civil Liberties, National Place Building, 1331 Pennsylvania Avenue NW., Suite 1000, Washington, DC 20530-0001, by facsimile at 202-307-0693, or email at privacy.compliance@usdoj.gov. To ensure proper handling, please reference the above CPCLO Order No. on your correspondence.

FOR FURTHER INFORMATION CONTACT: Andrew A. Proia, Attorney Advisor, Office of Privacy and Civil Liberties, National Place Building, 1331 Pennsylvania Avenue NW., Suite 1000, Washington, DC 20530-0001, by facsimile at 202-307-0693, or email at privacy.compliance@usdoj.gov. To ensure proper handling, please reference the above CPCLO Order No. on your correspondence.

SUPPLEMENTARY INFORMATION: On May 22, 2007, OMB issued Memorandum M-07-16, Safeguarding Against and Responding to the Breach of Personally Identifiable Information, to the heads of all executive departments and agencies. In its memorandum, OMB required agencies to publish a routine use for their systems of records specifically applying to the disclosure of information in connection with response and remedial efforts in the event of a breach of personally identifiable information. DOJ published a notice in the Federal Register, 72 FR 3410 (January 25, 2007), modifying all DOJ System of Records Notices by adding a routine use to address the limited disclosure of records related to a suspected or confirmed breach within the Department, consistent with OMB requirements. Since that time, all new DOJ System of Records Notices published by the Department, as well as significantly modified System of Records Notices that were republished in full, included a breach response routine use consistent with the requirements in OMB Memorandum M-07-16.

On January 3, 2017, OMB issued Memorandum M-17-12, Preparing for and Responding to a Breach of Personally Identifiable Information, to the heads of all executive departments and agencies. OMB Memorandum M-17-12 rescinds and replaces OMB Memorandum M-07-16 and updates agency routine use requirements for responding to a breach. Specifically, OMB Memorandum M-17-12 requires all Senior Agency Officials for Privacy to ensure that their agency's System of Records Notices include a routine use for the disclosure of information necessary to respond to a breach of the agency's personally identifiable information. Additionally, OMB Memorandum M-17-12 requires agencies to add a routine use to ensure that agencies are able to disclose records in their systems of records that may reasonably be needed by another agency in responding to a breach.

To satisfy the routine use requirements in OMB Memorandum M-17-12, DOJ is issuing two notices in the Federal Register to modify all of the Department's System of Records Notices. The records maintained in many DOJ systems of records are still subject to the Department's blanket breach response routine use published at 72 FR 3410 (January 25, 2007). For these DOJ systems of records, this notice rescinds 72 FR 3410 (January 25, 2007) and adds the two routine uses required by OMB Memorandum M-17-12.

Other DOJ systems of records have been created or significantly modified since 72 FR 3410 (January 25, 2007) added the previous, OMB-required breach response routine use. The DOJ System of Records Notices for these DOJ systems of records incorporated the OMB Memorandum M-07-16 breach response routine use in their “ROUTINE USES” section, rather than relying on the routine use published at 72 FR 3410 (January 25, 2007). These System of Records Notices are not affected by this notice publication. Elsewhere in the Federal Register, the Department is modifying the DOJ System of Records Notices for the DOJ systems of records that do not rely on the breach response routine use published at 72 FR 3410 (January 25, 2007). The DOJ System of Records Notices for these DOJ systems of records are being modified separately to ensure continuity with their previous notice publications. Pursuant to OMB Memorandum M-17-12, Preparing for and Responding to a Breach of Personally Identifiable Information (January 3, 2017), this notice: (1) Rescinds the breach response routine use published at 72 FR 3410 (January 25, 2007); (2) revises the breach response routine use for the DOJ systems of records, listed below; and (3) adds a new routine use to the DOJ systems of records, listed below, to ensure that the Department can assist another agency in responding to a confirmed or suspected breach, as appropriate.

In accordance with 5 U.S.C. 552a(r), the Department has provided a report to OMB and to Congress on this notice of modified systems of records.

Dated: May 19, 2017.
Peter A. Winn,
Acting Chief Privacy and Civil Liberties Officer, United States Department of Justice.

United States Department of Justice System of Records Notices and citations follow. An asterisk (*) designates the last full Federal Register notice that includes all of the elements that are required to be in a System of Records Notice.

System No. and name | Federal Register, citation(s)
JUSTICE/DOJ-001, Accounting Systems for the Department of Justice | 69 FR 31406*, 71 FR 142, 72 FR 3410, 75 FR 13575.
JUSTICE/DOJ-002, DOJ Computer Systems Activity & Access Records | 64 FR 73585*, 66 FR 8425, 72 FR 3410.
JUSTICE/DOJ-003, Correspondence Management Systems (CMS) for the Department of Justice | 66 FR 29992*, 66 FR 34743, 67 FR 65598, 72 FR 3410.
JUSTICE/DOJ-005, Nationwide Joint Automated Booking System (JABS) | 71 FR 52821*, 72 FR 3410.
JUSTICE/DOJ-006, Personnel Investigation and Security Clearance Records for the Department of Justice | 67 FR 59864*, 69 FR 65224, 72 FR 3410.
JUSTICE/DOJ-007, Reasonable Accommodations for the Department of Justice | 67 FR 34955*, 72 FR 3410.
JUSTICE/DOJ-008, Department of Justice Grievance Records | 68 FR 61696*, 69 FR 47179, 72 FR 3410.
JUSTICE/DOJ-009, Emergency Contact Systems for the Department of Justice | 69 FR 1762*, 72 FR 3410.
JUSTICE/DOJ-010, Leave Sharing Systems | 69 FR 22557*, 69 FR 47179, 72 FR 3410.
JUSTICE/DOJ-011, Access Control System (ACS) | 69 FR 70279*, 72 FR 3410.
JUSTICE/DOJ-012, Department of Justice Regional Data Exchange System (RDEX) | 70 FR 39790*, 70 FR 72315, 72 FR 3410, 72 FR 4532.
JUSTICE/ASG-001, General Files System of the Office of the Associate Attorney General | 69 FR 22872*, 72 FR 3410.
JUSTICE/ATF-001, Administrative Record System | 68 FR 3551, 552*, 72 FR 3410.
JUSTICE/ATF-003, Criminal Investigation Report System | 68 FR 3551, 553*, 72 FR 3410.
JUSTICE/ATF-006, Internal Security Record System | 68 FR 3551, 555*, 72 FR 3410.
JUSTICE/ATF-007, Personnel Record System | 68 FR 3551, 556*, 72 FR 3410.
JUSTICE/ATF-008, Regulatory Enforcement Record System | 68 FR 3551, 558*, 72 FR 3410.
JUSTICE/ATF-009, Technical and Scientific Services Record System | 68 FR 3551, 560*, 72 FR 3410.
JUSTICE/ATF-010, Training and Professional Development Record System | 68 FR 3551, 562*, 72 FR 3410.
JUSTICE/ATR-001, Antitrust Division Expert Witness File | 54 FR 42060, 061*, 66 FR 8425, 72 FR 3410.
JUSTICE/ATR-003, Index of Defendants in Pending and Terminated Antitrust Cases | 60 FR 52690*, 66 FR 8425, 72 FR 3410.
JUSTICE/ATR-004, Statements by Antitrust Division Officials (ATD Speech File) | 60 FR 52690, 691*, 66 FR 8425, 72 FR 3410.
JUSTICE/ATR-005, Antitrust Management Information System (AMIS)—Time Reporter | 53 FR 40502*, 66 FR 8425, 72 FR 3410.
JUSTICE/ATR-006, Antitrust Management Information System (AMIS)—Monthly Report | 63 FR 8659*, 66 FR 8425, 66 FR 17200, 72 FR 3410.
JUSTICE/ATR-007, Antitrust Division Case Cards | 60 FR 52690, 692*, 66 FR 8425, 72 FR 3410.
JUSTICE/ATR-009, Public Complaints and Inquiries File. | 45 FR 75898, 902*, 66 FR 8425, 72 FR 3410.
JUSTICE/ATR-014, Civil Investigative Demand (CID) Tracking System | 60 FR 52690, 694*, 66 FR 8425, 72 FR 3410.
JUSTICE/BOP-001, Prison Security and Intelligence Record System | 67 FR 41449*, 72 FR 3410.
JUSTICE/BOP-004, Inmate Administrative Remedy Record System | 67 FR 57244*, 72 FR 3410.
JUSTICE/BOP-005, Inmate Central Records System | 67 FR 31371*, 72 FR 3410, 77 FR 24982, 81 FR 22639.
JUSTICE/BOP-006, Inmate Trust Fund Accounts and Commissary Record System | 67 FR 11711*, 72 FR 3410.
JUSTICE/BOP-007, Inmate Physical and Mental Health Record System | 67 FR 11712*, 72 FR 3410.
JUSTICE/BOP-008, Inmate Safety and Accident Compensation Record System | 67 FR 41452*, 72 FR 3410.
JUSTICE/BOP-009, Administrative Claims Record System | 67 FR 41453*, 72 FR 3410.
JUSTICE/BOP-010, Access Control Entry-Exit System | 67 FR 16760*, 72 FR 3410.
JUSTICE/BOP-011, Telephone Activity Record System | 67 FR 16762*, 71 FR 9606, 72 FR 3410, 76 FR 79216.
JUSTICE/BOP-012, Office of Internal Affairs Investigative Records | 67 FR 9321*, 72 FR 3410.
JUSTICE/BOP-013, Inmate Electronic Message Record System | 70 FR 69594*, 72 FR 3410, 76 FR 79216.
JUSTICE/BOP-015, Outside Employment Requests Record System | 67 FR 16763*, 72 FR 3410.
JUSTICE/BOP-101, The National Institute of Corrections Technical Resource Provider Record System | 65 FR 11342*, 66 FR 8425, 72 FR 3410.
JUSTICE/BOP-103, National Institute of Corrections Academy Record System | 64 FR 70286*, 66 FR 8425, 72 FR 3410.
JUSTICE/BOP-104, National Institute of Corrections Mailing List & Information Center Contacts Records System | 64 FR 70287*, 66 FR 8425, 72 FR 3410.
JUSTICE/CIV-001, Civil Division Case File System | 63 FR 8659*, 66 FR 8425, 66 FR 17200, 66 FR 36593, 72 FR 3410.
JUSTICE/CIV-002, Civil Division Case File System: Customs Litigation | 45 FR 2215, 217*, 66 FR 8425, 72 FR 3410.
JUSTICE/CIV-003, Office of Alien Property File System | 42 FR 53288, 324*, 66 FR 8425, 72 FR 3410.
JUSTICE/CIV-004, Swine Flu Administrative Claim File System | 43 FR 44708*, 66 FR 8425, 72 FR 3410.
JUSTICE/CIV-005, Annuity Brokers List System | 68 FR 17401*, 72 FR 3410.
JUSTICE/CIV-006, Consumer-Inquiry Investigatory System | 53 FR 40506*, 66 FR 8425, 72 FR 3410.
JUSTICE/CIV-008, September 11th Victim Compensation Fund of 2001 File System | 66 FR 65991*, 66 FR 8425, 72 FR 3410.
JUSTICE/COPS-001, Police Corps System | 62 FR 1130, 131*, 66 FR 8425, 72 FR 3410.
JUSTICE/CRM-002, Criminal Division Witness Security File | 52 FR 47188*, 66 FR 8425, 72 FR 3410.
JUSTICE/CRM-003, File of Names Checked to Determine if those Individuals Have Been the Subject of an Electronic Surveillance | 52 FR 47189*, 66 FR 8425, 72 FR 3410.
JUSTICE/CRM-006, Information File on Individuals and Commercial Entities Known or Suspected of Being Involved in Fraudulent Activities | 42 FR 53288, 336*, 66 FR 8425, 72 FR 3410.
JUSTICE/CRM-008, Name Card File on Department of Justice Personnel Authorized to have Access to the Classified Files of the Department of Justice | 52 FR 47193*, 66 FR 8425, 72 FR 3410.
JUSTICE/CRM-012, Organized Crime and Racketeering Section, General Index File and Associated Records | 55 FR 49146, 147*, 66 FR 8425, 66 FR 17200, 72 FR 3410.
JUSTICE/CRM-014, Organized Crime and Racketeering Section, Intelligence and Special Services Unit, Information Request System | 42 FR 53288, 343*, 66 FR 8425, 72 FR 3410.
JUSTICE/CRM-019, Requests to the Attorney General for Approval of Applications to Federal Judges for Electronic Interceptions | 52 FR 47198*, 66 FR 8425, 72 FR 3410.
JUSTICE/CRM-021, The Stocks and Bonds Intelligence Control Card File System | 52 FR 47199*, 66 FR 8425, 72 FR 3410.
JUSTICE/CRM-022, Witness Immunity Records | 52 FR 47200*, 66 FR 8425, 72 FR 3410.
JUSTICE/CRM-025, Tax Disclosure Index File and Associated Records | 52 FR 47202*, 66 FR 8425, 72 FR 3410.
JUSTICE/CRM-026, International Prisoner Transfer Case Files-International Prisoner Transfer Tracking System | 68 FR 22739*, 72 FR 3410.
JUSTICE/CRM-027, Office of Special Investigation (OSI) Displaced Persons Listings | 52 FR 47204*, 66 FR 8425, 72 FR 3410.
JUSTICE/CRS-001, Operational Data Information System | 45 FR 2215, 220*, 66 FR 8425, 72 FR 3410.
JUSTICE/CRT-001, Central Civil Rights Division Index File and Associated Records | 68 FR 47610, 611*, 70 FR 43904, 72 FR 3410.
JUSTICE/CRT-003, Civil Rights Interactive Case Management System | 68 FR 47610, 613*, 72 FR 3410.
JUSTICE/CRT-004, Registry of Names of Interested Persons Desiring Notification of Submissions Under Section 5 of the Voting Rights Act | 68 FR 47610, 614*, 72 FR 3410.
JUSTICE/CRT-007, Files on Employment Civil Rights Matters Referred by the Equal Employment Opportunity Commission | 68 FR 47610, 615*, 72 FR 3410.
JUSTICE/CRT-009, Civil Rights Division Travel Reports | 68 FR 47610, 616*, 72 FR 3410.
JUSTICE/DAG-006, Presidential Appointee Candidate Records System | 50 FR 42607*, 66 FR 8425, 72 FR 3410.
JUSTICE/DAG-007, Presidential Appointee Records System | 50 FR 42608*, 66 FR 8425, 72 FR 3410.
JUSTICE/DAG-008, Special Candidates for Presidential Appointments and Noncareer SES Positions Records System | 59 FR 45005*, 66 FR 8425, 72 FR 3410.
JUSTICE/DAG-010, United States Judge and Department of Justice Presidential Appointee Records | 50 FR 42612*, 66 FR 8425, 72 FR 3410.
JUSTICE/DAG-013, General Files System | 57 FR 8474*, 66 FR 8425, 72 FR 3410.
JUSTICE/DEA-001, Air Intelligence Program | 52 FR 472182, 06*, 66 FR 8425, 72 FR 3410.
JUSTICE/DEA-INS-111, Automated Intelligence Records System (Pathfinder) | 55 FR 49146, 182*, 66 FR 8425, 72 FR 3410.
JUSTICE/DEA-002, Clandestine Laboratory Seizure System (CLSS) | 68 FR 3894*, 72 FR 3410.
JUSTICE/DEA-003, Automated Records and Consolidated Orders System—Diversion Analysis and Detection System (ARCOS-DADS) | 69 FR 51104*, 72 FR 3410.
JUSTICE/DEA-005, Controlled Substances Act Registration Records (CSA) | 52 FR 47182, 208*, 66 FR 8425, 72 FR 3410.
JUSTICE/DEA-010, Planning and Inspection Division Records | 52 FR 47182, 213*, 66 FR 8425, 72 FR 3410.
JUSTICE/DEA-011, Operations Files | 52 FR 47182, 214*, 66 FR 8425, 72 FR 3410.
JUSTICE/DEA-012, Registration Status-Investigation Records | 52 FR 47182, 215*, 66 FR 8425, 72 FR 3410.
JUSTICE/DEA-013, Security Files | 52 FR 47182, 215*, 66 FR 8425, 72 FR 3410.
JUSTICE/DEA-015, Training Files | 52 FR 47182, 217*, 66 FR 8425, 72 FR 3410.
JUSTICE/DEA-017, Grants of Confidentiality Files (GCF) | 52 FR 47182, 218*, 66 FR 8425, 72 FR 3410.
JUSTICE/DEA-020, Essential Chemical Reporting System | 52 FR 47219*, 66 FR 8425, 72 FR 3410.
JUSTICE/DEA-021, DEA Aviation Unit Reporting System | 65 FR 24986, 987*, 66 FR 8425, 72 FR 3410.
JUSTICE/DEA-022, El Paso Intelligence Center (EPIC) Seizure System (ESS) | 71 FR 36362*, 72 FR 3410.
JUSTICE/ENRD-003, Environment & Natural Resources Division Case & Related Files System | 65 FR 8990*, 66 FR 8425, 70 FR 61159, 72 FR 3410.
JUSTICE/EOIR-001, Records and Management Information System | 69 FR 26179*, 72 FR 3410
JUSTICE/EOIR-003, Practitioner Complaint—Disciplinary Files | 64 FR 49237*, 66 FR 8425, 72 FR 3410.
JUSTICE/BIA-001, Decisions of the Board of Immigration Appeals | 48 FR 5331*, 66 FR 8425, 72 FR 3410.
JUSTICE/BIA-002, Roster of Organizations and their Accredited Representatives Recognized by the Board of Immigration Appeals | 45 FR 75908*, 66 FR 8425, 72 FR 3410.
JUSTICE/FBI-001, National Crime Information Center (NCIC) | 64 FR 52343*, 66 FR 8425, 72 FR 3410.
JUSTICE/FBI-002, The FBI Central Records System | 63 FR 8659, 671*, 66 FR 8425, 66 FR 17200, 72 FR 3410.
JUSTICE/FBI-003, Bureau Mailing Lists | 70 FR 7513*, 72 FR 3410.
JUSTICE/FBI-006, Electronic Surveillance (ELSUR) Indices | 70 FR 7513, 514*, 72 FR 3410.
JUSTICE/FBI-008, Bureau Personnel Management System | 58 FR 51875*, 66 FR 8425, 72 FR 3410.
JUSTICE/FBI-010, Employee Travel Vouchers and Individual Earning Records | 52 FR 47248*, 66 FR 8425, 72 FR 3410.
JUSTICE/FBI-011, Employee Health Records | 58 FR 51875*, 66 FR 8425, 72 FR 3410.
JUSTICE/FBI-013, Security Access Control System (SACS) | 70 FR 7513, 516*, 72 FR 3410.
JUSTICE/FBI-015, National Center for the Analysis of Violent Crime (NCAVC) | 58 FR 51877*, 66 FR 8425, 72 FR 3410.
JUSTICE/FBI-016, FBI Counterdrug Information Indices System (CIIS) | 59 FR 29824*, 66 FR 8425, 72 FR 3410.
JUSTICE/FBI-017, National DNA Index System (NDIS) | 61 FR 37495*, 66 FR 8425, 72 FR 3410.
JUSTICE/FBI-018, National Instant Criminal Background Check System (NICS) | 63 FR 65223*, 65 FR 78190, 66 FR 6676, 66 FR 8425, 66 FR 12959, 72 FR 3410.
JUSTICE/FBI-BRU, Blanket Routine Uses (BRU) Applicable to More Than One FBI Privacy Act System of Records | 66 FR 33558*, 70 FR 7513, 517, 72 FR 3410.
JUSTICE/FTTTF-001, Flight Training Candidates File System | 67 FR 39839*, 67 FR 47570, 72 FR 3410.
JUSTICE/JMD-002, Controlled Substances Act Nonpublic Records | 66 FR 38000*, 72 FR 3410
JUSTICE/JMD-017, Department of Justice Employee Transportation Facilitation System | 66 FR 20683*, 72 FR 3410, 72 FR 54460.
JUSTICE/JMD-022, Department of Justice Consolidated Asset Tracking System (CATS) | 71 FR 29170*, 72 FR 3410.
JUSTICE/JMD-023, Federal Bureau of Investigation Whistleblower Case Files | 70 FR 53253*, 72 FR 3410, 72 FR 15906, 72 FR 30631.
JUSTICE/JMD-024, Attorney Student Loan Repayment Program Applicant Files | 71 FR 64740*, 72 FR 3410.
JUSTICE/NDIC-001, National Drug Intelligence Center Data Base | 58 FR 21995*, 66 FR 8425, 72 FR 3410.
JUSTICE/OAG-001, General Files System | 50 FR 37294*, 66 FR 8425, 72 FR 3410.
JUSTICE/OIG-004, OIG Employee Training Records | 64 FR 68375*, 66 FR 8425, 72 FR 3410.
JUSTICE/OIG-005, OIG Firearms Qualifications System | 64 FR 68376*, 66 FR 8425, 72 FR 3410.
JUSTICE/OJP-001, Equipment Inventory | 58 FR 51879*, 66 FR 8425, 72 FR 3410.
JUSTICE/OJP-004, Grants Management Information System | 53 FR 40526*, 66 FR 8425, 72 FR 3410.
JUSTICE/OJP-006, Congressional and Public Affairs System | 52 FR 47276*, 66 FR 8425, 72 FR 3410.
JUSTICE/OJP-007, Public Information System | 45 FR 75936*, 66 FR 8425, 72 FR 3410.
JUSTICE/OJP-008, Civil Rights Investigative System | 53 FR 40528*, 66 FR 8425, 72 FR 3410.
JUSTICE/OJP-009, Federal Advisory Committee Membership Files | 53 FR 40529*, 66 FR 8425, 72 FR 3410.
JUSTICE/OJP-010, Technical Assistance Resource Files | 53 FR 40530*, 66 FR 8425, 72 FR 3410.
JUSTICE/OJP-011, Registered Users File—National Criminal Justice Reference Service (NCJRS) | 58 FR 51879*, 66 FR 8425, 72 FR 3410.
JUSTICE/OJP-012, Public Safety Officers Benefits System | 64 FR 25070*, 66 FR 8425, 72 FR 3410.
JUSTICE/OJP-013, Denial of Federal Benefits Clearinghouse System (DEBAR) | 64 FR 25071*, 66 FR 8425, 72 FR 3410.
JUSTICE/OJP-014, Victims of International Terrorism Expense Reimbursement Program | 71 FR 44709*, 72 FR 3410.
JUSTICE/OLP-002, United States Judges Records System. | 50 FR 30309*, 66 FR 8425, 72 FR 3410.
JUSTICE/OLP-003, General Files System of the Office of Legal Policy | 50 FR 37299*, 66 FR 8425, 72 FR 3410.
JUSTICE/OSCW-001, Caselink Document Database for Office of Special Counsel—Waco | 65 FR 53749*, 66 FR 8425, 72 FR 3410.
JUSTICE/PAO-001, News Release, Document and Index System | 42 FR 53288, 364*, 66 FR 8425, 72 FR 3410.
JUSTICE/PRC-001, Docket, Scheduling and Control | 52 FR 47182, 281*, 66 FR 8425, 72 FR 3410.
JUSTICE/PRC-003, Inmate and Supervision Files | 53 FR 7813*, 66 FR 8425, 72 FR 3410.
JUSTICE/PRC-004, Labor and Pension Case, Legal File and General Correspondence System | 53 FR 40533*, 66 FR 8425, 72 FR 3410.
JUSTICE/PRC-005, Office Operation and Personnel System | 53 FR 40535*, 66 FR 8425, 72 FR 3410.
JUSTICE/PRC-006, Statistical, Educational and Developmental System | 52 FR 47182, 287*, 66 FR 8425, 72 FR 3410.
JUSTICE/PRC-007, Workload Record, Decision Result, and Annual Report System | 53 FR 40535*, 66 FR 8425, 72 FR 3410.
JUSTICE/TAX-001, Criminal Tax Case Files, Special Project Files, Docket Cards, and Associated Records | 71 FR 11446, 447*, 72 FR 3410.
JUSTICE/TAX-002, Tax Division Civil Tax Case Files, Docket Cards, and Associated Records | 71 FR 11446, 449*, 72 FR 3410.
JUSTICE/TAX-003, Files of Applications for Attorney and Non-Attorney Positions with the Tax Division | 71 FR 11446, 451*, 72 FR 3410.
JUSTICE/USA-001, Administrative File | 48 FR 56662*, 66 FR 8425, 72 FR 3410.
JUSTICE/USA-002, A.U.S.A. Applicant Files | 48 FR 38329*, 66 FR 8425, 72 FR 3410.
JUSTICE/USA-003, Citizen Complaint Files | 54 FR 42088*, 66 FR 8425, 72 FR 3410.
JUSTICE/USA-005, Civil Case Files | 53 FR 1864*, 63 FR 8659, 66 FR 8425, 66 FR 17200, 72 FR 3410.
JUSTICE/USA-006, Consumer Complaints | 54 FR 42090*, 66 FR 8425, 72 FR 3410.
JUSTICE/USA-007, Criminal Case Files | 53 FR 1864*, 63 FR 8659, 64 FR 71499, 66 FR 8425, 66 FR 17200, 72 FR 3410.
JUSTICE/USA-009, Kline District of Columbia and Maryland Stock and Land Fraud Interrelationship Filing System | 54 FR 42092*, 66 FR 8425, 72 FR 3410.
JUSTICE/USA-010, Major Crimes Division Investigative Files | 54 FR 42094*, 66 FR 8425, 72 FR 3410.
JUSTICE/USA-011, Prosecutor's Management Information System (PROMIS) | 54 FR 42095*, 66 FR 8425, 72 FR 3410.
JUSTICE/USA-012, Security Clearance Forms for Grand Jury Reporters | 48 FR 5386*, 66 FR 8425, 72 FR 3410.
JUSTICE/USA-013, U.S. Attorney, District of Columbia Superior Court Division, Criminal Files | 54 FR 42097*, 66 FR 8425, 72 FR 3410.
JUSTICE/USA-014, Pre-Trial Diversion Program Files | 48 FR 38344*, 66 FR 8425, 72 FR 3410.
JUSTICE/USA-016, Assistant United States Attorney Applicant Records System | 57 FR 8487*, 66 FR 8425, 72 FR 3410.
JUSTICE/USA-017, Appointed Assistant United States Attorneys Personnel System | 57 FR 8488*, 66 FR 8425, 72 FR 3410.
JUSTICE/USM-019, Merit Promotion Open Season Records System (MPOS) | 71 FR 29668*, 72 FR 3410.
JUSTICE/UST-001, Bankruptcy Case Files and Associated Records | 71 FR 59818, 819*, 72 FR 3410.
JUSTICE/UST-002, Bankruptcy Trustee Oversight Records | 71 FR 59818, 822*, 72 FR 3410.
JUSTICE/UST-003, U.S. Trustee Program Timekeeping Records | 71 FR 59818, 824*, 72 FR 3410.
JUSTICE/UST-004, U.S. Trustee Program Case Referral System | 71 FR 59818, 825*, 72 FR 3410.
JUSTICE/UST-005, Credit Counseling and Debtor Education Files and Associated Records | 71 FR 59818, 827*, 72 FR 3410.

The routine use published at 72 FR 3410 (January 25, 2007) is hereby rescinded for the DOJ System of Records Notices, listed above, and replaced as follows:

* * * * *

ROUTINE USES OF RECORDS MAINTAINED IN THE SYSTEM, INCLUDING CATEGORIES OF USERS AND THE PURPOSES OF SUCH USES:

To appropriate agencies, entities, and persons when (1) the Department suspects or has confirmed that there has been a breach of the system of records; (2) the Department has determined that as a result of the suspected or confirmed breach there is a risk of harm to individuals, DOJ (including its information systems, programs, and operations), the Federal Government, or national security; and (3) the disclosure made to such agencies, entities, and persons is reasonably necessary to assist in connection with the Department's efforts to respond to the suspected or confirmed breach or to prevent, minimize, or remedy such harm.

To another Federal agency or Federal entity, when the Department determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

* * * * *

[FR Doc. 2017-10780 Filed 5-24-17; 8:45 am]

BILLING CODE 4410-NW-P